FEDERAL COMMUNICATIONS COMMISSION

47 CFR Part 1

[WC Docket No. 21-341; Report No. 3208; FR ID 201128]

Petitions for Reconsideration of Action in Rulemaking Proceeding; Correction

AGENCY: Federal Communications Commission.

ACTION: Petition for reconsideration; correction.

SUMMARY: The Federal Communications Commission corrects a Proposed rule published in the Federal Register of January 29, 2024, announcing the dates for filing oppositions and replies to a Petition for Reconsideration of Action in a Rulemaking Proceeding, adopted by the Commission on November 15, 2023. The document contained an error in the Dates section, the contact information, and the subject of the supplementary information.

DATES: February 8, 2024.

FOR FURTHER INFORMATION CONTACT: For further information, please contact Melissa Droller Kirkel, Competition Policy Division, Wireline Competition Bureau, at 202-418-7958 or Melissa.Kirkel@fcc.gov.

SUPPLEMENTARY INFORMATION: In the Federal Register of January 29, 2024, in FR Doc. 2024-01632, on page 5451, the following corrections are made:

Correction

1. In the first column, last paragraph, correct the Dates caption to read:

DATES: Oppositions to the Petitions must be filed on or before February 13, 2024. Replies to oppositions must be filed on or before February 23, 2024.

Correction

2. In the second column, second paragraph from the top, correct the For Further Information Contact caption to read:

FOR FURTHER INFORMATION CONTACT: For further information, please contact Melissa Droller Kirkel, Competition Policy Division, Wireline Competition Bureau, at Melissa.Kirkel@fcc.gov, 202-418-7958.

Correction

3. In the second column, fourth paragraph from the top, correct the Supplementary Information caption to read:

Subject: Protecting Consumers from SIM Swap and Port-out Fraud (WC Docket No. 21-341).

Federal Communications Commission.
Marlene Dortch,
Secretary.

[FR Doc. 2024-02578 Filed 2-7-24; 8:45 am]

BILLING CODE 6712-01-P